DEPARTMENT OF HEALTH AND HUMAN SERVICES

Health Resources and Services Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: January 14, 2009, 11 a.m.-3 p.m.

Place: Teleconference meeting.

Status: The meeting will be open to the public; audio conference access limited only by availability of telephone ports.

Purpose: The Committee represents the required preliminary planning of the mandated ACICBL activities for the 2009 calendar year. The meeting will afford committee members with the opportunity to identify and discuss potential topics on interdisciplinary and community based trainings for the focus of the Ninth Annual ACICBL Report to the Secretary and Congress. The discussion will also include the identification of potential speakers with expertise on recommended topics for the Annual Report as well as strategies for moving forward. In addition, the Committee will finalize the dates, format, and agenda for the two remaining mandated meetings of the 2009 calendar year.

Agenda: The agenda includes a discussion of potential topics and speakers for the Ninth Annual ACICBL Report, and planning for the two remaining meetings of the 2009 calendar year. Agenda items are subject to change as dictated by the priorities of the Committee.

Supplementary Information: The ACICBL will meet on Wednesday, January 14, 2009, 11 a.m. to 3 p.m. (EST) via telephone conference. To participate in this telephone conference call, please dial 1-888-272-7337 and provide the following information:

Leader's Name: Mr. Lou Coccodrilli.

Passcode: 9501090.

For Further Information Contact: Anyone requesting information regarding the Committee meeting should contact Lou Coccodrilli, Federal Official for the ACICBL, and Chief of the Area Health Education Center Branch, Bureau of Health Professions, Health Resources and Services Administration, 5600 Fishers Lane, Rockville, Maryland 20857; lcoccodrilli@hrsa.gov or (301) 443-6590. CAPT Norma Hatot, Senior Nurse Consultant may also be contacted for inquiries via e-mail at nhatot@hrsa.gov or telephone at (301) 443-2861.

Dated: December 9, 2008.
Alexandra Huttinger,
Director, Division of Policy Review and Coordination.

[FR Doc. E8-29665 Filed 12-15-08; 8:45 am]

BILLING CODE 4165-15-P